DEPARTMENT OF COMMERCE

National Oceanic and Atmospheric Administration

50 CFR Part 679

[Docket No. 021122285-2285-01; I.D. 110602C]

Fisheries of the Exclusive Economic Zone off Alaska; Bering Sea and Aleutian Islands; Proposed 2003 Harvest Specifications for Groundfish

AGENCY: National Marine Fisheries Service (NMFS), National Oceanic and Atmospheric Administration (NOAA), Commerce.

ACTION: Proposed 2003 initial specifications for groundfish and associated management measures; apportionment of reserves; request for comments.

SUMMARY: NMFS proposes 2003 initial harvest specifications, prohibited species bycatch allowances, and associated management measures for the groundfish fishery of the Bering Sea and Aleutian Islands management area (BSAI). This action is necessary to establish harvest limits and associated management measures for groundfish during the 2003 fishing year and to accomplish the goals and objectives of the Fishery Management Plan for the Groundfish Fishery of the Bering Sea and Aleutian Islands Area (FMP). The intended effect of this action is to conserve and manage the groundfish resources in the BSAI and to provide an opportunity for public participation in the annual groundfish specification process as conducted by the North Pacific Fishery Management Council (Council).

DATES: Comments must be received by January 13, 2003.

ADDRESSES: Comments may be sent to Sue Salveson, Assistant Regional Administrator, Sustainable Fisheries Division, Alaska Region, National Marine Fisheries Service, P.O. Box 21668, Juneau, AK 99802-1668, Attn: Lori Gravel, or delivered to room 401 of the Federal Building, 709 West 9th Street, Juneau, AK. Comments also may be sent via facsimile (fax) to 907-586-7557. Comments will not be accepted if submitted via e-mail or Internet.

Copies of the draft Environmental Assessment/Initial Regulatory Flexibility Analysis (EA/IRFA) prepared for this action are available from NMFS (see ADDRESSES) and comments must be received by December 20, 2002. Copies of the final 2001 Stock Assessment and Fishery Evaluation (SAFE) report, dated November 2001, are available from the North Pacific Fishery Management Council, West 4th Avenue, Suite 306, Anchorage, AK 99510-2252 (907-271-2809).

FOR FURTHER INFORMATION CONTACT: Mary Furuness, 907-586-7228 or e-mail at mary.furuness@noaa.gov.

SUPPLEMENTARY INFORMATION:

Background for the 2003 Proposed Harvest Specifications

Groundfish fisheries in the BSAI are governed by Federal regulations at 50 CFR part 679 that implement the FMP. The Council prepared the FMP and NMFS approved it under the Magnuson-Stevens Fishery Conservation and Management Act. General regulations governing U.S. fisheries also appear at 50 CFR part 600.

The FMP and its implementing regulations require NMFS, after consultation with the Council, to specify annually the total allowable catch (TAC) for each target species and the “other species” category, the sum of which must be within the optimum yield range of 1.4 million to 2.0 million metric tons (mt) (§ 679.20(a)(1)(i)). Regulations under § 679.20(c)(1) further require NMFS to solicit public comment on proposed annual TACs, apportionments thereof, and prohibited species catch (PSC) allowances, and to publish proposed specifications in the Federal Register. The proposed specifications set forth in Tables 1 through 13 of this action satisfy these requirements. For 2003, the proposed sum of TACs is 1,998,540 mt.

Under § 679.20(c)(3), NMFS will publish the final annual specifications for 2003 after (1) considering comments received within the comment period (see DATES), (2) consulting with the Council at its next meeting beginning December 2, 2002, and (3) considering new information presented in the EA, the final 2002 SAFE reports, and in the section 7 consultation prepared for the 2003 groundfish fisheries.

With some exceptions, regulations at § 679.20(c)(2)(ii) require that one-fourth of each proposed initial TAC (ITAC) amount and apportionment thereof, one-fourth of each Community Development Quota (CDQ) reserve established under § 679.20(b)(1)(iii), and one-fourth of each proposed PSC allowance established under § 679.21, become available at 0001 hours Alaska local time (A.l.t.), January 1, on an interim basis and remain in effect until superseded by the final specifications. Regulations that will be effective with the final rule to implement the Steller sea lion protection measures provide that the proposed first seasonal allowance for pollock, Pacific cod and Atka mackerel becomes available at 0001 hours, A.l.t., January 1 on an interim basis and remains in effect until superseded by the final specifications. Regulations at § 679.20(c)(2)(ii) do not provide for an interim specification for either the hook-and-line and pot gear sablefish CDQ reserve or for sablefish managed under the Individual Fishing Quota (IFQ) program. Interim TAC specifications and apportionments thereof for the 2003 fishing year will be published in a separate Federal Register notice.

Other Rules Affecting the 2003 Specifications

At its October 2002 meeting, the Council recommended the extension of the closure of the Aleutian Islands pollock fishery through 2003 as a precautionary component of the Steller sea lion protection measures implemented under separate rulemaking. The Council also indicated that they may consider apportionment of the TAC of several rockfish species in the Aleutian Islands subarea among the Eastern, Central and Western Aleutian districts. A final rule implementing regulatory provisions of the American Fisheries Act (AFA) will be published in the Federal Register and effective for 2003. In order to minimize confusion, the proposed specifications also identify sideboard amounts for the AFA fisheries that will be available under the final rule. Also, NMFS has initiated rulemaking to permanently implement the Steller sea lion protection measures for 2003 and beyond. To minimize confusion and provide clarity to the 2003 specification process, we have included in the proposed 2003 harvest specifications pollock, Pacific cod and Atka mackerel seasonal allowances that are consistent with the existing protection measures.

Proposed Acceptable Biological Catch (ABC) and TAC Specifications

The proposed ABC levels are based on the best available scientific information, including projected biomass trends, information on assumed distribution of stock biomass, and revised technical methods used to calculate stock biomass. In general, the development of ABCs and overfishing levels (OFLs) involves sophisticated statistical analyses of fish populations and is based on a successive series of six levels, or tiers, of reliable information available to fishery scientists.

The best information currently available is set forth in appendix A of the final SAFE report for the 2001 BSAI groundfish fisheries dated November 2001 (see ADDRESSES). Information on the status of stocks will be updated with the 2002 survey results and reconsidered by the Plan Team at its November 2002 meeting.

At their October 2002 meeting, the Scientific and Statistical Committee (SSC), Advisory Panel (AP), and Council reviewed the Plan Team's preliminary recommendations to project 2003 biomass amounts as identified in the 2001 SAFE for the proposed 2003 ABC, OFL, and TAC amounts. The SSC concurred with the Plan Team's recommendations, which included a new approach for updating the ABCs and OFLs by using an estimate of 2002 catch with the November 2001 SAFE report model projections of 2003 ABCs for groundfish stocks managed at tiers 1-3. This procedure results in closer approximations to the final 2003 specifications and therefore provides the Council and the public with better information. The Council adopted the OFL and ABC amounts recommended by the SSC (Table 1). The Council also adopted the AP's recommendations for the 2003 proposed TACs to be set equal to the 2002 TACs, except for yellowfin sole, northern rockfish and Atka mackerel. Recognizing anticipated changes in the ABCs for these species, the AP recommended and the Council adopted a decrease in the TACs for yellowfin sole and northern rockfish and an increase in the Atka mackerel TAC. The Council adopted the AP's recommendation to use the 2002 PSC allowances for 2003. They will reconsider these amounts at the December 2002 Council meeting after new status of stocks information is incorporated by the Plan Team into a final SAFE report for the 2003 BSAI groundfish fishery. None of the Council's TAC recommendations for 2003 exceed the recommended ABC for any species category. Therefore, NMFS finds that the Council's recommendations for proposed 2003 OFLs, ABCs, and TACs are consistent with the best available information on the biological condition of the groundfish stocks.

Table 1 lists the proposed 2003 OFLs, ABC amounts, and TAC amounts for groundfish in the BSAI. The proposed apportionment of TAC amounts among fisheries and seasons is discussed below.

Table 1.—Proposed 2003 Acceptable Biological Catch (ABC), Total Allowable Catch (TAC), Initial TAC (ITAC), CDQ Reserve Allocation, and Overfishing Levels of Groundfish in the Bering Sea and Aleutian Islands AREA (BSAI)¹
[All amounts are in mt]
Species | Area | Overfishing level | ABC | TAC | ITAC ² | CDQ reserve ³
Pollock ⁴ | Bering Sea (BS)² Aleutian Islands (Al) ² Bogoslof District | 2,594,000 31,700 46,400 | 2,088,880 23,800 4,310 | 1,485,000 1,000 100 | 1,283,040 900 90 | 148,500 100 10
Pacific cod | BSAI | 292,680 | 252,020 | 200,000 | 170,000 | 15,000
Sablefish ⁵ | BS AI | 3,150 4,190 | 2,100 2,770 | 1,930 2,550 | 821 541 | 265 431
Atka mackerel | BSAI Western AI Central AI Eastern AI/BS | 100,115 | 59,600 23,960 28,950 6,690 | 59,600 23,960 28,950 6,690 | 50,660 20,366 24,607 5,687 | 4,470 1,797 2,171 502
Yellowfin sole | BSAI | 135,630 | 114,370 | 76,000 | 64,600 | 5,700
Rock sole | BSAI | 242,585 | 203,870 | 54,000 | 45,900 | 4,050
Greenland turbot | BSAI BS AI | 33,370 | 27,590 18,485 9,105 | 8,000 5,360 2,640 | 6,800 4,556 2,244 | 600 402 198
Arrowtooth flounder | BSAI | 120,010 | 99,285 | 16,000 | 13,600 | 1,200
Flathead sole | BSAI | 90,850 | 74,440 | 25,000 | 21,250 | 1,875
Other flatfish ⁶ | BSAI | 21,800 | 18,100 | 3,000 | 2,550 | 225
Alaska plaice | BSAI | 170,915 | 142,070 | 12,000 | 10,200 | 900
Pacific ocean perch | BSAI BS Western AI Central AI Eastern AI | 17,850 | 15,060 2,666 5,759 3,114 3,521 | 14,800 2,620 5,660 3,060 3,460 | 12,580 2,227 4,811 2,601 2,941 | 1,110 197 425 230 260
Northern rockfish | BSAI BS Al | 5,580 | 4,700 | 13 4,687 | 11 3,984 | 1 352
Shortraker/rougheye | BSAI BS Al | 1,369 | 1,028 | 116 912 | 99 775 | 9 68
Other rockfish ⁷ | BS Al | 482 901 | 361 676 | 361 676 | 307 575 | 27 51
Squid | BSAI | 2,620 | 1,970 | 1,970 | 1,675 |
Other species ⁸ | BSAI | 78,900 | 39,100 | 30,825 | 26,201 | 2,312
TOTAL |  | 3,995,097 | 3,176,100 | 1,998,540 | 1,770,618 | 187,225
¹ These amounts apply to the entire BSAI management area unless otherwise specified. With the exception of pollock, and for the purpose of these specifications, the Bering Sea (BS) subarea includes the Bogoslof District.
² Except for pollock and the portion of the sablefish TAC allocated to hook-and-line and pot gear, 15 percent of each TAC is put into a reserve. The ITAC for each species is the remainder of the TAC after the subtraction of these reserves. The Aleutian Islands (AI) subarea and the Bogoslof District are closed to directed fishing for pollock. The amounts specified are for incidental catch amounts only, and are not apportioned by season, sector or put into a reserve.
³ Except for pollock and the hook-and-line or pot gear allocation of sablefish, one half of the amount of the TACs placed in reserve, or 7.5 percent of the TACs, is designated as a CDQ reserve for use by CDQ participants (see §§ 679.20(b)(1)(iii) and 679.31).
⁴ The AFA requires that 10 percent of the annual pollock TAC be allocated as a directed fishing allowance for the CDQ sector. NMFS then subtracts 4 percent of the remainder as an incidental catch allowance for pollock, which is not apportioned by season or area. The remainder of the TAC is further allocated by sector as follows: inshore, 50 percent; catcher/processor, 40 percent; and motherships, 10 percent.
⁵ Regulations at § 679.20(b)(1) do not provide for the establishment of an ITAC for the hook-and-line and pot gear allocation for sablefish. The ITAC for sablefish reflected in Table 1 is for trawl gear only. Twenty percent of the sablefish TAC allocated to hook-and-line gear or pot gear is reserved for use by CDQ participants (see § 679.20(b)(1)(iii)).
⁶ “Other flatfish” includes all flatfish species, except for Pacific halibut (a prohibited species), flathead sole, Greenland turbot, rock sole, yellowfin sole, arrowtooth flounder and Alaska plaice.
⁷ “Other rockfish” includes all Sebastes and Sebastolobus species except for Pacific ocean perch, northern, shortraker, and rougheye rockfish.
⁸ “Other species” includes sculpins, sharks, skates and octopus. Forage fish, as defined at § 679.2, are not included in the “other species” category.

Reserves and the Incidental Catch Allowance (ICA) for Pollock

Regulations at § 679.20(b)(1)(i) require that 15 percent of the TAC for each target species or species group, except for the hook-and-line and pot gear allocation of sablefish, be placed in a non-specified reserve. The AFA supersedes this provision for pollock by requiring that the proposed 2003 TAC for this species be fully allocated among the CDQ program, the ICA, and inshore, catcher/processor, and mothership directed fishery allowances.

Regulations at § 679.20(b)(1)(iii) require that one half of each TAC amount placed in the non-specified reserve, with the exception of squid, be allocated to the groundfish CDQ reserve and that 20 percent of the hook-and-line and pot gear allocation of sablefish be allocated to the fixed gear sablefish CDQ reserve. Section 206(a) of the AFA requires that 10 percent of the pollock TAC be allocated to the pollock CDQ reserve. With the exception of the hook-and-line and pot gear sablefish CDQ reserve, the CDQ reserves are not further apportioned by gear. Regulations at § 679.21(e)(1)(i) also require that 7.5 percent of each PSC limit, with the exception of herring, be withheld as a prohibited species quota (PSQ) reserve for the CDQ fisheries. Regulations governing the management of the CDQ and PSQ reserves are set forth at §§ 679.30 and 679.31.

Under section 206(b) of the AFA, NMFS allocates a pollock ICA of 4 percent of the pollock TAC after subtraction of the 10 percent CDQ reserve. This allowance is based on an examination of the incidental catch of pollock in non-pollock target fisheries from 1997 through 2001. During this 4-year period, the incidental catch of pollock ranged from a low of 3 percent in 1998, to a high of about 6 percent in 1997, with a 4-year average of 4 percent. Because these incidental percentages are contingent on the relative amounts of other groundfish TACs, NMFS will be better able to assess the ICA amount when the Council makes final ABC and TAC amount recommendations in December. Under regulations at § 679.24(b)(4), the use of nonpelagic trawl gear is prohibited in the directed fishery for non-CDQ pollock in the BSAI.

The remainder of the non-specified reserve is not designated by species or species group, and any amount of the reserve may be reapportioned to a target species or the “other species” category during the year, providing that such reapportionments do not result in overfishing.

Pollock Allocations Under the AFA

Section 206(a) of the AFA requires that 10 percent of the BSAI pollock TAC be allocated as a directed fishing allowance to the CDQ program. The remainder of the BSAI pollock TAC, after the subtraction of an allowance for the incidental catch of pollock by vessels, including CDQ vessels, harvesting other groundfish species, is allocated as follows; 50 percent to catcher vessels harvesting pollock for processing by the inshore component, 40 percent to catcher/processors and catcher vessels harvesting pollock for processing by catcher/processors in the offshore component, and 10 percent to catcher vessels harvesting pollock for processing by motherships in the offshore component. These amounts are listed in Table 2.

The AFA also contains several specific requirements concerning pollock and pollock allocations. First, paragraph 210(c) of the AFA requires that not less than 8.5 percent of the pollock allocated to vessels for processing by offshore catcher/processors be available for harvest by offshore catcher vessels, listed in section 208(b), harvesting pollock for processing by offshore catcher/processors listed in section 208(e). Second, catcher/processors eligible to fish for pollock, as specified under paragraph 208(e)(21) of the AFA, are prohibited from harvesting in the aggregate a total of more than one-half of one percent (0.5 percent) of the pollock allocated to vessels for processing by offshore catcher/processors. Table 2 lists the proposed 2003 allocations of pollock TAC as described by the AFA. Other provisions of the AFA, including inshore pollock cooperative allocations and unrestricted catcher processor and catcher vessel harvest limitations, are found in Tables 8 through 13.

Table 2 also lists seasonal apportionments of pollock and harvest limits within the Steller Sea Lion Conservation Area (SCA). The harvest within the SCA, as defined at § 679.22(a)(11)(vii), is limited to 28 percent of the annual directed fishing allowance (DFA) until April 1. The remaining 12 percent of the annual DFA allocated to the A season may be taken outside of the SCA before April 1 or inside the SCA after April 1. If the 28 percent of the annual DFA is not taken inside the SCA before April 1, the remainder is available to be taken inside the SCA after April 1. The A season pollock SCA harvest limit will be apportioned to each industry sector in proportion to each sector's allocated percentage of the DFA as set forth in the AFA. These proposed amounts, by sector, are listed in Table 2.

Table 2.—Proposed Allocations of the Pollock TAC and Directed Fishing Allowance (DFA) to the Inshore, Catcher/Processor, Mothership, and CDQ Components ¹
[All amounts are in mt]
Area and sector | 2002 DFA | A/B Season ¹: A/B DFA (40% of annual DFA) | A/B Season ¹: A SCA limit ² | C/D Season ¹: C/D DFA (60% of annual DFA)
Bering Sea subarea | 1,485,000 |  |  |
CDQ | 148,500 | 59,400 | 41,580 | 89,100
ICA ³ | 53,460 |  |  |
AFA Inshore | 641,520 | 256,608 | 179,626 | 384,912
AFA Catcher Processors ⁴ | 513,216 | 205,286 | 143,700 | 307,930
Catch by C/Ps | 469,593 | 187,837 |  | 281,756
Catch by CVs ⁴ | 43,623 | 17,449 |  | 26,174
Restricted C/P cap ⁵ | 2,566 | 1,026 |  | 1,540
AFA Motherships | 128,304 | 51,322 | 35,925 | 76,982
Excessive shares cap ⁶ | 224,532 |  |  |
Aleutian Islands: ICA ⁷ | 900
Bogoslof District: ICA ⁷ | 90
¹ After subtraction for the CDQ reserve and the ICA, the pollock TAC is allocated as a DFA as follows: inshore component—50 percent, catcher/processor component—40 percent, and mothership component—10 percent. Under paragraph 206(a) of the AFA, the CDQ reserve for pollock is 10 percent. NMFS, under regulations at § 679.24(b)(4), prohibits nonpelagic trawl gear to engage in directed fishing for non-CDQ pollock in the BSAI. The A/B season, January 20—June 10, is allocated 40 percent of the DFA and the C/D season, June 10—November 1 is allocated 60 percent of the DFA.
² No more than 28 percent of each sector's annual DFA may be taken from the SCA before April 1. The remaining 12 percent of the annual DFA allocated to the A season may be taken outside of SCA before April 1 or inside the SCA after April 1. If 28 percent of the annual DFA is not taken inside the SCA before April 1, the remainder is available to be taken inside the SCA after April 1.
³ The pollock ICA for the BS subarea is 4 percent of the TAC after subtraction of the CDQ reserve.
⁴ Subsection 210(c) of the AFA requires that not less than 8.5 percent of the directed fishing allowance allocated to listed catcher/processors (C/Ps) shall be available for harvest only by eligible catcher vessels (CVs) delivering to listed catcher/processors.
⁵ The AFA requires that vessels described in section 208(e)(21) be prohibited from exceeding a harvest amount of one-half of one percent of the directed fishing allowance allocated to vessels for processing by AFA catcher/processors.
⁶ Paragraph 210(e)(1) of the AFA specifies that “No particular individual, corporation, or other entity may harvest, through a fishery cooperative or otherwise, a total of more than 17.5 percent of the pollock available to be harvested in the directed pollock fishery.”
⁷ The Aleutian Islands subarea and the Bogoslof District are closed to directed fishing for pollock. The amounts specified are for incidental catch amounts only, and are not apportioned by season or sector.

Allocation of the Atka Mackerel TAC

Regulations implementing Steller sea lion protection measures at § 679.20(a)(8)(ii) apportion the Atka mackerel ITAC into two equal seasonal allowances. After subtraction of the jig gear allocation, the first allowance is made available for directed fishing from January 1 to April 15 (“A” season), and the second seasonal allowance is made available from September 1 to November 1 (“B” season)(Table 3). Under § 679.20(a)(8)(ii)(C)(1), the Regional Administrator will establish a harvest limit area (HLA) limit of no more than 60 percent of the seasonal TAC for the Western and Central Aleutian Districts. Pacific cod harvest by trawl gear in the Aleutian Islands HLA in the Western and Central Aleutian Districts west of 178 degrees W long. is prohibited during the Atka mackerel HLA directed fisheries. Atka mackerel fishing is prohibited in critical habitat east of 178 degrees W. long. to provide maximum protection to Steller sea lions and because Atka mackerel is readily available in waters outside of critical habitat.

Under § 679.20(a)(8)(i), up to 2 percent of the Eastern Aleutian District and the Bering Sea subarea Atka mackerel ITAC may be allocated to the jig gear fleet. The amount of this allocation is determined annually by the Council based on several criteria, including the anticipated harvest capacity of the jig gear fleet. The Council recommended and NMFS proposes that 1 percent of the Atka mackerel ITAC in the Eastern Aleutian District and the Bering Sea subarea be allocated to the jig gear fleet in 2003. Based on an ITAC of 15,170 mt, the jig gear allocation would be 152 mt.

A lottery system is used for the HLA Atka mackerel directed fisheries to reduce the amount of daily catch in the HLA by about half and to disperse the fishery over two areas (§ 679.20(a)(8)(iii)).

Table 3.—Proposed 2003 Seasonal and Spatial Apportionments, Gear Shares, and CDQ Reserve of the BSAI Atka Mackerel TAC ¹ ²
Subarea & component | TAC | CDQ reserve | ITAC | Seasonal apportionment ³: A Season ⁴: Total | Seasonal apportionment ³: A Season ⁴: HLA Limit ⁶ | Seasonal apportionment ³: B Season ⁵: Total | Seasonal apportionment ³: B Season ⁵: HLA Limit ⁶
Western Aleutian District | 23,960 | 1,797 | 20,366 | 10,183 | 6,110 | 10,183 | 6,110
Central Aleutian District | 28,950 | 2,171 | 24,607 | 12,304 | 7,382 | 12,304 | 7,382
Eastern AI/BS subarea ⁷ | 6,690 | 502 | 5,687 |  |  |  |
Jig (1%) ⁸ |  |  | 57 |  |  |  |
Other gear (99%) |  |  | 5,630 | 2,815 |  | 2,815 |
Total | 59,600 | 4,470 | 50,660 | 25,302 |  | 25,302 |
¹ Amounts are in mt.
² Regulations at §§ 679.20(a)(8)(ii) and 679.22(a)(8) establish temporal and spatial limitations for the Atka mackerel fishery.
³ The seasonal apportionment of Atka mackerel is 50 percent in the A season and 50 percent in the B season.
⁴ The A season is January 1 through April 15.
⁵ The B season is September 1 through November 1.
⁶ HLA limit refers to the amount of each seasonal allowance that is available for fishing inside the HLA (§ 679.2). In 2003, 60 percent of each seasonal allowance is available for fishing inside the HLA in the Western and Central AI. Pacific cod harvest by trawl gear in the Aleutian Islands HLA, west of 178 degrees W. long. is prohibited during the Atka mackerel HLA directed fisheries.
⁷ Eastern Aleutian District and the Bering Sea subarea.
⁸ Regulations at § 679.20 (a)(8) require that up to 2 percent of the Eastern AIeutian District and the Bering Sea subarea ITAC be allocated to the jig gear fleet. The proposed amount of this allocation is 1 percent. The jig gear allocation is not apportioned by season.

Allocation of the Pacific Cod TAC

Under § 679.20(a)(7)(i)(A), 2 percent of the Pacific cod ITAC is allocated to vessels using jig gear, 51 percent to vessels using hook-and-line or pot gear, and 47 percent to vessels using trawl gear. Under regulations at § 679.20(a)(7)(i)(B), the portion of the Pacific cod TAC allocated to trawl gear is further allocated 50 percent to catcher vessels and 50 percent to catcher/processors. Under regulations at § 679.20(a)(7)(i)(C)(1), a portion of the Pacific cod allocated to hook-and-line or pot gear is set aside as an ICA of Pacific cod in directed fisheries for groundfish using these gear types. Based on anticipated incidental catch in these fisheries, NMFS proposes an ICA of 500 mt. The remainder of Pacific cod is further allocated to vessels using hook-and-line or pot gear as the following directed fishing allowances: 80 percent to hook-and-line catcher processors, 0.3 percent to hook-and-line catcher vessels, 18.3 percent to pot gear vessels, and 1.4 percent to catcher vessels under 60 feet (18.3 m) length overall (LOA) using hook-and-line or pot gear.

Due to concerns about the potential impact of the Pacific cod fishery on Steller sea lions and their critical habitat, the Pacific cod fisheries are temporally dispersed by the apportionment of the ITAC into two seasonal allowances (§§ 679.23(e)(6) and 679.20(a)(7)). For most non-trawl gear the first allowance, 60 percent of the ITAC, is made available for directed fishing from January 1 to June 10, and the second seasonal allowance, 40 percent of the ITAC, is made available from June 10 to December 31. No seasonal harvest constraints are imposed for the Pacific cod fishery by catcher vessels less than 60 feet (18.3 m) LOA using hook-and-line or pot gear. For trawl gear, the first season is January 20 to April 1 and is allocated 60 percent of the ITAC. The second season, April 1 to June 10, and the third season, June 10 to November 1, are each allocated 20 percent of the ITAC. The trawl catcher vessel allocation is further allocated as 70 percent in the first season, 10 percent in the second season and 20 percent in the third season. The trawl catcher/processor allocation is allocated 50 percent in the first season, 30 percent in the second season, and 20 percent in the third season. Table 4 lists the proposed 2003 allocations and seasonal apportionments of the Pacific cod ITAC. NMFS and the Council propose that any unused portion of a seasonal Pacific cod allowance will become available at the beginning of the next seasonal allowance.

Table 4.—2003 Gear Shares and Seasonal Apportionments of the BSAI Pacific Cod TAC
Gear sector | Percent | Share of gear sector total (mnt) | Subtotal percentages for gear sectors | Share of gear sector total (mt) | Seasonal apportionment¹: Date | Seasonal apportionment¹: Amount (mt)
Total hook-and-line and pot gear allocation of Pacific cod TAC | 51 | 86,700 |  |  |  |
Incidental Catch Allowance |  |  |  | 500 |  |
Processor and Vessel subtotal |  | 86,200 |  |  |  |
Hook-and-line Catcher Processors |  |  | 80 | 68,960 | Jan 1-Jun 10 Jun 10-Dec. 31 | 41,376 27,584
Hook-and-Line Catcher Vessels |  |  | 0.3 | 259 | Jan 1-Jun 10 Jun 10-Dec 31 | 155 104
Pot Gear Vessels |  |  | 18.3 | 15,775 | Jan 1-Jun 10 Sept 1-Dec 31 | 9,465 6,310
Catcher Vessels <60 feet LOA using Hook-and-line or Pot gear |  |  | 1.4 | 1,207 |  |
Trawl gear Total | 47 | 79,900 |  |  |  |
Trawl Catcher Vessel |  |  | 50 | 39,950 | Jan 20-Apr 1 Apr 1-Jun 10 Jun 10-Nov 1 | 27,965 3,995 7,990
Trawl Catcher Processor |  |  | 50 | 39,950 | Jan 20-Apr 1 Apr 1-Jun 10 Jun 10-Nov 1 | 19,975 11,985 7,990
Jig | 2 | 3,400 |  |  | Jan 1-Jun 10 Jun 10-Dec 31 | 2,040 1,360
Total | 100 | 170,000 |  |  |  |
¹ For non-trawl gear the first season is allocated 60 percent of the TAC and the second season is allocated 40 percent of the TAC. No seasonal harvest constraints are imposed for the Pacific cod fishery by catcher vessels less than 60 feet (18.3 m) LOA using hook-and-line or pot gear. For trawl gear, the first season is allocated 60 percent of the TAC and the second and third seasons are each allocated 20 percent of the TAC. The trawl catcher vessels' allocation is further allocated as 70 percent in the first season, 10 percent in the second season and 20 percent in the third season. The trawl catcher/processors' allocation is allocated 50 percent in the first season, 30 percent in the second season and 20 percent in the third season. Any unused portion of a seasonal Pacific cod allowance will be reapportioned to the next seasonal allowance.

Allocation of the Shortraker and Rougheye Rockfish TAC

Under § 679.20(a)(9), the ITAC of shortraker rockfish and rougheye rockfish specified for the Aleutian Islands subarea is allocated 30 percent to vessels using non-trawl gear and 70 percent to vessels using trawl gear. Based on a proposed 2003 ITAC of 775 mt, the trawl allocation would be 543 mt and the non-trawl allocation would be 232 mt.

Sablefish Gear Allocation

Regulations at § 679.20(a)(4)(iii) and (iv) require that sablefish TACs for the BS and AI subareas be allocated between trawl and hook-and-line or pot gear types. Gear allocations of the TACs for the Bering Sea subarea are 50 percent for trawl gear and 50 percent for hook-and-line or pot gear, and for the Aleutian Islands subarea are 25 percent for trawl gear and 75 percent for hook-and-line or pot gear. Regulations at § 679.20(b)(1)(iii)(B) require that 20 percent of the hook-and-line and pot gear allocation of sablefish be reserved as sablefish CDQ. Additionally, regulations at § 679.20(b)(1)(iii)(A) require that 7.5 percent of the trawl gear allocation of sablefish (one half of the reserve) be reserved as groundfish CDQ. Proposed 2003 gear allocations of the sablefish TAC and CDQ reserve amounts are specified in Table 5.

Table 5.—Proposed 2003 Gear Shares and CDQ Reserve of BSAI Sablefish TACS
Subarea & Gear | Percent of TAC | Share of TAC (mt) | ITAC (mt)¹ | CDQ Reserve
Bering Sea:
Trawl² | 50 | 965 | 821 | 72
Hook-&-line/pot gear ³ | 50 | 965 | N/A | 193
Total | 100 | 1,930 | 821 | 265
Aleutian Islands:
Trawl² | 25 | 637 | 541 | 48
Hook-&-line/pot gear ³ | 75 | 1,913 | N/A | 383
Total | 100 | 2,550 | 541 | 431
¹ Except for the sablefish hook-and-line and pot gear allocation, 15 percent of TAC is apportioned to the reserve. The ITAC is the remainder of the TAC after the subtraction of these reserves.
² For the portion of the sablefish TAC allocated to vessels using trawl gear, one half of the reserve (7.5 percent of the specified TAC) is reserved for the CDQ program.
³ For the portion of the sablefish TAC allocated to vessels using hook-and-line or pot gear, 20 percent of the allocated TAC is reserved for use by CDQ participants. Regulations in § 679.20(b)(1) do not provide for the establishment of an ITAC for sablefish allocated to hook-and-line or pot gear.

Allocation of Prohibited Species Catch Limits for Halibut, Crab, Salmon, and Herring

Due to the lack of new information concerning PSC limits and apportionments, the Council at its October 2002 meeting recommended using the halibut, crab and herring 2002 PSC amounts for the proposed 2003 amounts. The Council will reconsider these amounts in December based on recommendations by the Plan Team and the SSC. Regulations at § 679.21(e)(1)(vii) specify a scheduled reduction of chinook salmon PSC limits until the final limit is reached in 2004. For 2003, the chinook salmon PSC limit for the pollock fishery is 33,000 fish.

PSC limits for halibut are set in regulations at § 679.21(e). For the BSAI trawl fisheries, the limit is 3,675 mt of mortality of Pacific halibut and for non-trawl fisheries, the limit is 900 mt mortality. PSC limits for crab and herring are specified annually based on abundance and spawning biomass.

For 2003, the proposed PSC limit of red king crab in Zone 1 for trawl vessels is 97,000 animals. Based on the criteria set out at § 679.21(e)(1)(ii), the number of mature female red king crab was estimated in 2002 to be above 8.4 million animals, and the effective spawning biomass is estimated to be 14.5 million pounds (6,577 mt), which is less than the 55 million pound (24,948 mt).

Regulations at § 679.21(e)(3)(ii)(B) establish criteria under which NMFS must specify an annual red king crab bycatch limit for the Red King Crab Savings Subarea (RKCSS). The regulations limit the RKCSS to up to 35 percent of the trawl bycatch allowance specified for the rock sole/flathead sole/“other flatfish” fishery category and must be based on the need to optimize the groundfish harvest relative to red king crab bycatch. The Council recommended and NMFS proposes a red king crab bycatch limit equal to 35 percent of the trawl bycatch allowance specified for the rock sole/flathead sole/“other flatfish” fishery category within the RKCSS.

Based on 2001 survey data, C. bairdi abundance is estimated to be 624 million crab. Given the criteria set out at § 679.21(e)(1)(iii) and the 2001 survey data, the proposed 2003 C. bairdi PSC limit for trawl gear is 980,000 animals in Zone 1 and 2,970,000 animals in Zone 2 as a result of the C. bairdi abundance estimate exceeding 400 million animals.

Under § 679.21(e)(1)(iv), the PSC limit for C. opilio is based on total abundance as indicated by the NMFS annual bottom trawl survey. The C. opilio PSC limit is set at 0.1133 percent of the Bering Sea abundance index. Based on the 2001 survey estimate of 3.86 billion animals, the calculated limit would be 4,373,380 animals. Because this limit is less than 4.5 million animals, under § 679.21(e)(1)(iv)(B) the proposed 2003 C. opilio PSC limit is 4,350,000 animals.

Under § 679.21(e)(1)(vi), the proposed PSC limit of Pacific herring caught while conducting any trawl operation for groundfish in the BSAI is 1 percent of the annual eastern Bering Sea herring biomass. NMFS's best estimate of 2002 herring biomass is 152,574 mt. This amount was derived using 2001 survey data and an age-structured biomass projection model developed by the Alaska Department of Fish and Game (ADF&G). Therefore, the proposed herring PSC limit for 2003 is 1,526 mt.

Under § 679.21(e)(1)(i), 7.5 percent of each PSC limit specified for crab and halibut is reserved as a PSQ reserve for use by the groundfish CDQ program. Regulations at § 679.21(e)(3) require the apportionment of each trawl PSC limit into PSC bycatch allowances for seven specified fishery categories. Regulations at § 679.21(e)(4)(ii) authorize the apportionment of the non-trawl halibut PSC limit among five fishery categories. The proposed fishery bycatch allowances for the trawl and non-trawl fisheries are listed in Table 6.

Regulations at § 679.21(e)(4)(ii) authorize exemption of specified non-trawl fisheries from the halibut PSC limit. As in past years, NMFS after consultation with the Council, is proposing to exempt pot gear, jig gear, and the sablefish IFQ hook-and-line gear fishery categories from halibut bycatch restrictions because these fisheries use selective gear types that take comparatively few halibut. In 2002, total groundfish catch for the pot gear fishery in the BSAI was approximately 13,989 mt with an associated halibut bycatch mortality of about 7 mt. The 2002 groundfish jig gear fishery harvested about 172 mt of groundfish. Most vessels in the jig gear fleet are less than 60 ft (18.3 m) LOA and are exempt from observer coverage requirements. As a result, observer data are not available on halibut bycatch in the jig gear fishery. However, a negligible amount of halibut bycatch mortality is assumed because of the selective nature of this gear type and the likelihood that halibut caught with jig gear have a high survival rate when released.

As in past years, the Council recommended that the sablefish IFQ fishery be exempt from halibut bycatch restrictions because of the sablefish and halibut IFQ program (subpart D of 50 CFR part 679). The IFQ program requires legal-sized halibut to be retained by vessels using hook-and-line gear if a halibut IFQ permit holder is aboard and is holding unused halibut IFQ. This action results in less halibut discard in the sablefish fishery. In 1995, about 36 mt of halibut discard mortality was estimated for the sablefish IFQ fishery. A similar estimate for 1996 through 2002 has not been calculated, but NMFS has no information indicating that it would be significantly different.

Regulations at § 679.21(e)(5) authorize NMFS, after consultation with the Council, to establish seasonal apportionments of PSC allowances. At its October 2002 meeting, the Council proposed no seasonal apportionments, except for the trawl bycatch allowance for halibut bycatch specified for the rockfish trawl fishery. The intent of this proposal was to reduce halibut bycatch during the first quarter when it is the highest. NMFS anticipates that the Council will recommend additional seasonal apportionments during its December 2002 meeting.

Table 6.—Proposed 2003 Prohibited Species Bycatch Allowances for the BSAI Trawl and Non-Trawl Fisheries
Trawl fisheries | Prohibited species and Zone: Halibut mortality (mt) BSAI | Prohibited species and Zone: Herring (mt) BSAI | Prohibited species and Zone: Red King Crab (animals) Zone 1 ¹ | Prohibited species and Zone: C. opilio (animals) COBLZ ² | Prohibited species and Zone: C. bairdi (animals): Zone 1 ¹ | Prohibited species and Zone: C. bairdi (animals): Zone 2 ¹
Yellowfin sole | 886 | 139 | 16,664 | 2,776,981 | 340,844 | 1,788,459
Rock sole/other flat/flathead sole ³ | 779 | 20 | 59,782 | 969,130 | 365,320 | 596,154
RKCSS ³ |  |  | 20,924 |  |  |
Turbot/arrowtooth/sablefish ⁴ |  | 9 |  | 40,238 |  |
Rockfish: July 1—December 31 | 69 | 7 |  | 40,237 |  | 10,988
Pacific cod | 1,434 | 20 | 11,664 | 124,736 | 183,112 | 324,176
Midwater trawl pollock |  | 1,184 |  |  |  |
Pollock/Atka mackerel/other ⁵ | 232 | 46 | 1,615 | 72,428 | 17,224 | 27,473
Total Trawl PSC | 3,400 | 1,526 | 89,725 | 4,023,750 | 906,500 | 2,747,250
Non-Trawl Fisheries
Pacific cod—Total | 775
Other non-trawl—Total | 58
Groundfish pot & jig exempt | (⁷)
Sablefish hook-&-line exempt | (⁷)
Total Non-Trawl | 833
PSQ Reserve ⁶ | 342 |  | 7,275 | 326,250 | 73,500 | 222,750
Grand Total | 4,575 | 1,526 | 97,000 | 4,350,000 | 980,000 | 2,970,000
¹ Refer to § 679.2 for definitions of areas.
² C. opilio Bycatch Limitation Zone. Boundaries are defined at 50 CFR part 679, Figure 13.
³ The Council at its October 2002 meeting proposed that red king crab bycatch for trawl fisheries within the RKCSS be limited to 35 percent of the total allocation to the rock sole, flathead sole, and other flatfish fishery category (§ 679.21(e)(3)(ii)(B)). “Other flatfish” for PSC monitoring includes all flatfish species, except for Pacific halibut (a prohibited species), greenland turbot, rock sole, yellowfin sole and arrowtooth flounder.
⁴ Greenland turbot, arrowtooth flounder, and sablefish fishery category.
⁵ Pollock other than pelagic trawl pollock, Atka mackerel, and “other species” fishery category.
⁶ With the exception of herring, 7.5 percent of each PSC limit is allocated to the CDQ program as PSQ reserve. The PSQ reserve is not allocated by fishery, gear or season.
⁷ Exempt.

To monitor halibut bycatch mortality allowances and apportionments, the Administrator, Alaska Region, NMFS (Regional Administrator), will use observed halibut bycatch rates, assumed mortality rates, and estimates of groundfish catch to project when a fishery's halibut bycatch mortality allowance or seasonal apportionment is reached. The Regional Administrator monitors a fishery's halibut bycatch mortality allowances using assumed mortality rates that are based on the best information available, including information contained in the annual SAFE report.

The Council recommended and NMFS proposes that the Preseason Assumed halibut discard mortality rates (DMRs) developed by staff of the International Pacific Halibut Commission (IPHC) for the 2002 BSAI groundfish fisheries be used for purposes of monitoring halibut bycatch allowances established for 2003 (Table 7). Results from analysis of halibut release condition data for 2000 showed continued stability in halibut DMRs for many fisheries. Plots of annual DMRs against the 10-year mean indicated little change since 1990 for some fisheries, particularly the major trawl fisheries. DMRs were more variable for the smaller fisheries which typically take minor amounts of halibut bycatch. For 2002, Preseason Assumed DMRs were used, which included use of the long-term mean DMR for a 3-year period before revisions are proposed, except for the BSAI hook-and-line Pacific cod fishery and CDQ fisheries, for which annual DMRs were used. The IPHC will continue to conduct annual analyses of observer data and recommend changes to the DMRs where a fishery DMR shows large variation from the mean and for the CDQ fisheries. For 2002, the BSAI hook-and-line Pacific cod fishery DMR did not change; but the CDQ fishery DMRs were adjusted. The justification for these mortality rates is discussed in the final SAFE report dated November 2001. The proposed mortality rates listed in Table 7 are subject to change pending the results of an updated analysis on halibut mortality rates in the groundfish fisheries that IPHC staff is scheduled to present to the Council at its December 2002 meeting.

Table 7.—Proposed 2003 Assumed Pacific Halibut Mortality Rates for the BSAI Fisheries
Fishery | Preseason assumed mortality (percent)
Hook-and-line gear fisheries:
Rockfish | 25
Pacific cod | 12
Greenland turbot | 18
Sablefish | 22
Other Species | 12
Trawl gear fisheries:
Midwater pollock | 84
Nonpelagic pollock | 76
Yellowfin sole | 81
Rock sole | 76
Flathead sole | 67
Other flatfish | 71
Rockfish | 69
Pacific cod | 67
Atka mackerel | 75
Greenland turbot | 70
Sablefish | 50
Other species | 67
Pot gear fisheries:
Pacific cod | 8
Other species | 8
CDQ Trawl fisheries:
Atka mackerel | 89
Flathead sole | 83
Midwater pollock | 88
Nonpelagic pollock | 90
Rockfish | 89
Yellowfin sole | 77
CDQ Hook-and-line fisheries:
Pacific cod | 13
Greenland turbot | 14
CDQ Pot fisheries:
Pacific cod | 7
Sablefish | 38

Bering Sea Subarea Inshore Pollock Allocations

The final rule to implement major provisions of the AFA at § 679.4, will set forth procedures for AFA inshore catcher vessel pollock cooperatives to apply for and receive cooperative fishing permits and inshore pollock allocations. NMFS received applications from seven inshore catcher vessel cooperatives. Table 8 lists the proposed pollock allocations to the seven inshore catcher vessel pollock cooperatives based on 2002 cooperative allocations and NMFS’ assumption, at this date, that the cooperatives membership will remain unchanged in 2003. Allocations for cooperatives and vessels not participating in cooperatives are not made for the AI subarea because the AI subarea has been closed to directed fishing for pollock. These allocations may be revised pending adjustments to cooperatives' membership prior to 2003.

Table 8.—Proposed 2003 Bering Sea Subarea Inshore Cooperative Allocations
Cooperative name and member vessels | Sum of member vessel's official catch histories ¹ | Percentage of inshore sector allocation (percent) | Annual co-op allocation
Akutan Catcher Vessel Association: Aldebaran, Arctic Explorer, Arcturus, Blue Fox, Cape Kiwanda, Columbia, Dominator, Exodus, Flying Cloud, Golden Dawn, Golden Pisces, Hazel Lorraine, Intrepid Explorer, Leslie Lee, Lisa Melinda, Majesty, Marcy J, Margaret Lyn, Nordic Explorer, Northern Patriot, Northwest Explorer, Pacific Ram, Pacific Viking, Pegasus, Peggy Jo, Perseverance, Predator, Raven, Royal American, Seeker, Sovereignty, Traveler, Viking Explorer | 245,527 | 28.085 | 180,169
Arctic Enterprise Association: Bristol Explorer, Ocean Explorer, Pacific Explorer | 36,807 | 4.210 | 27,009
Northern Victor Fleet Cooperative: Anita J, Collier Brothers, Commodore, Excalibur II, Goldrush, Half Moon Bay, Miss Berdie, Nordic Fury, Pacific Fury, Poseidon, Royal Atlantic, Sunset Bay, Storm Petrel | 73,656 | 8.425 | 54,049
Peter Pan Fleet Cooperative: Amber Dawn, American Beauty, Elizabeth F, Morning Star, Ocean Leader, Oceanic, Providian, Topaz, Walter N | 18,693 | 2.138 | 13,717
Unalaska Cooperative: Alaska Rose, Bering Rose, Destination, Great Pacific, Messiah, Morning Star, Ms Amy, Progress, Sea Wolf, Vanguard, Western Dawn | 106,737 | 12.209 | 78,324
UniSea Fleet Cooperative: Alsea, American Eagle, Argosy, Auriga, Aurora, Defender, Gun-Mar, Nordic Star, Pacific Monarch, Seadawn, Starfish, Starlite | 201,566 | 23.056 | 147,910
Westward Fleet Cooperative: A.J., Alaskan Command, Alyeska, Arctic Wind, Caitlin Ann, Chelsea K, Dona Martita, Fierce Allegiance, Hickory Wind, Ocean Hope 3, Pacific Knight, Pacific Prince, Starward, Viking, Westward I | 189,544 | 21.681 | 139,089
Open access AFA vessels | 1,707 | 0.195 | 1,252
Total inshore allocation | 874,238 | 100 | 641,520
¹ According to regulations that will be effective with the final rule to implement major provisions of the AFA at 679.62(e)(1) the individual catch history for each vessel is equal to the vessel's best 2 of 3 years inshore pollock landings from 1995 through 1997 and includes landings to catcher/processors for vessels that made 500 or more mt of landings to catcher/processors from 1995 through 1997.

When the final rule to implement major provisions of the AFA at § 679.20(a)(5)(i)(A) is published, NMFS intends to subdivide the inshore allocation into allocations for cooperatives and vessels not fishing in a cooperative (i.e., the open access sector). In addition, under § 679.22(a)(11)(vii), NMFS intends to establish harvest limits inside the Steller sea lion conservation area (SCA) and provide a set-aside so that catcher vessels less than or equal to 99 ft (30.2 m) LOA have the opportunity to operate entirely within the SCA during the A season. Accordingly, Table 9 lists the proposed apportionment of the Bering Sea subarea inshore pollock allocation into allocations for vessels fishing in a cooperative and for vessels not participating in a cooperative and establishes a cooperative-sector SCA set-aside for AFA catcher vessels less than or equal to 99 ft (30.2 m) LOA. The SCA set-aside for sector catcher vessels less than or equal to 99 ft (30.2 m) LOA that are not participating in a cooperative will be established inseason based on actual participation levels and is not included in Table 9. These proposed allocations may be revised pending final review and approval of 2003 cooperative agreements.

Table 9.—Proposed 2003 Bering Sea Subarea Pollock Allocations to the Cooperative and Open Access Sectors of the Inshore Pollock Fishery.
[Amounts are expressed in MT]
| A/B season TAC | A season SCA ¹ | C/D season TAC
Cooperative sector:
Vessels > 99 ft | n/a | 154,025 | n/a
Vessels < 99 ft | n/a | 25,250 | n/a
Total | 256,107 | 179,275 | 384,161
Open access sector | 501 | ² 351 | 751
Total inshore | 256,608 | 179,626 | 384,912
¹ Steller sea lion conservation area established at § 679.22(a)(11)(vii).
² SCA limitations for vessels less than or equal to 99 ft LOA that are not participating in a cooperative will be established on an inseason basis in accordance with § 679.22(a)(11)(vii)(C)(2) which specifies that “the Regional Administrator will prohibit directed fishing for pollock by vessels catching pollock for processing by the inshore component greater than 99 ft (30.2 m) LOA before reaching the inshore SCA harvest limit during the A season to accommodate fishing by vessels less than or equal to 99 ft (30.2 m) inside the SCA for the duration of the inshore seasonal opening.”

Unrestricted AFA Catcher/Processor Sideboards

In 2003, the formula for setting AFA catcher/processor sideboard limits for non-pollock groundfish will change from calculations made for sideboards in 2000 through 2002. The Council made a distinction between retained and total catch for the purpose of calculating sideboard limits and felt that AFA vessels should not receive sideboard credit for groundfish that was discarded and not utilized. The catcher/processor sideboard limits for BSAI groundfish other than Atka mackerel will be based on the 1995 through 1997 retained catch of such groundfish species by the 20 listed AFA catcher/processors listed in paragraphs 208(e)(1) through (20) of the AFA and the nine ineligible catcher/processors listed in section 209 of the AFA, except for Pacific cod which will be based on 1997 retained catch only and Pacific ocean perch in the Aleutian Islands subarea which will be based on 1996 and 1997 retained catch only. The AFA catcher/processor sideboard limit for Atka mackerel is zero percent of the Bering Sea subarea and Eastern Aleutians district's annual TAC, 11.5 percent of the Central Aleutian district's annual TAC, and 20 percent of the Western Aleutian district's annual TAC.

The basis for these sideboard limits is described in detail in the Proposed Rule for Amendments 61/61/13/8 to Implement Major Provisions of the AFA (66 FR 65028, December 17, 2001). The proposed 2003 catcher/processor sideboard limits are set out in Table 10 below.

All non-pollock groundfish that is harvested by unrestricted AFA catcher/processors, whether as targeted catch or incidental catch, will be deducted from the proposed sideboard limits in Table 10. However, non-pollock groundfish that is delivered to listed catcher/processors by catcher vessels will not be deducted from the proposed 2003 sideboard limits for the listed catcher/processors.

Table 10.—Proposed 2003 Unrestricted BSAI AFA Catcher/Processor Groundfish Sideboard Limits
[Amounts are Expressed in MT]
Target species | Area | 1995-1997: Retained catch | 1995-1997: Available TAC | 1995-1997: Ratio | Proposed 2003 ITAC available to trawl C/Ps | Proposed 2003 C/P sideboard limit
Pacific cod trawl | BSAI | 12,424 | 51,450 | 0.241 | 39,950 | 9,628
Sablefish trawl | BS | 8 | 1,736 | 0.005 | 821 | 4
| AI | 0 | 1,135 | 0.000 | 541 | 0
Atka mackerel | Western AI: |  |  |  |  |
| A season ¹ | n/a | n/1 | 0.200 | 10,183 | 2,037
| HLA limit ¹ |  |  |  |  | 1,222
| B season | n/a | n/a | 0.200 | 10,183 | 2,037
| HLA Limit² |  |  |  |  | 1,222
| Central AI: |  |  |  |  |
| A season ¹ | n/a | n/a | 0.115 | 12,304 | 1,415
| HLA limit |  |  |  |  | 849
| B season | n/a | n/a | 0.115 | 12,304 | 1,415
| HLA limit |  |  |  |  | 849
Yellowfin sole | BSAI | 100,192 | 527,000 | 0.190 | 64,600 | 12,274
Rock sole | BSAI | 6,317 | 202,107 | 0.031 | 45,900 | 1,423
Greenland turbot | BS | 121 | 16,911 | 0.007 | 4,556 | 32
| AI | 23 | 6,839 | 0.003 | 2,244 | 7
Arrowtooth flounder | BSAI | 76 | 36,873 | 0.002 | 13,600 | 27
Flathead sole | BSAI | 1,925 | 87,975 | 0.022 | 21,250 | 468
Alaska plaice | BSAI | 3,243 | 0.035 | 10,200 | 357
Other flatfish | BSAI | 3,243 | 92,428 | 0.035 | 2,550 | 89
Pacific ocean perch | BS | 12 | 5,760 | 0.002 | 2,227 | 4
| Western AI | 54 | 12,440 | 0.004 | 4,811 | 19
| Central AI | 3 | 6,195 | 0.000 | 2,601 | 0
| Eastern AI | 125 | 6,265 | 0.020 | 2,941 | 59
Northern rockfish | BS | 8 |  | 0.008 | 11 | 0
| AI | 83 | 13,254 | 0.006 | 3,984 | 24
Shortraker/rougheye | BS | 8 |  | 0.008 | 99 | 1
| AI | 42 | 2,827 | 0.015 | 775 | 12
Other rockfish | BS | 18 | 1,026 | 0.018 | 307 | 6
| AI | 22 | 1,924 | 0.011 | 575 | 6
Squid | BSAI | 73 | 3,670 | 0.020 | 1,675 | 34
Other species | BSAI | 553 | 65,925 | 0.008 | 26,201 | 210
¹ The seasonal apportionment of Atka mackerel in the open access fishery is 50 percent in the A season and 50 percent in the B season. Unrestricted AFA catcher/processors are limited to harvesting no more than zero in the Eastern Aleutian district and Bering Sea subarea, 20 percent of the available TAC in the Western Aleutian district, and 11.5 percent of the available TAC in the Central Aleutian district.
² HLA limit refers to the amount of each seasonal allowance that is available for fishing inside the HLA (§ 679.2). In 2003, 60 percent of each seasonal allowance is available for fishing inside the HLA in the Western and Central Aleutian districts. Pacific cod harvest by trawl gear in the Aleutian Islands HLA, west of 178 degrees W. long. is prohibited during the Atka mackerel HLA directed fisheries.

The final rule to implement major provisions of the AFA at § 679.63(a)(2) will establish a formula for PSC sideboard limits for unrestricted AFA catcher/processors. These amounts are expected to be equivalent to the percentage of prohibited species bycatch limits harvested in the non-pollock groundfish fisheries by the AFA catcher/processors listed in subsection 208(e) and section 209 of the AFA from 1995 through 1997. Prohibited species amounts harvested by these catcher/processors in BSAI non-pollock groundfish fisheries from 1995 through 1997 are shown in Table 11. These data were used to calculate the relative amount of prohibited species catch limits harvested by pollock catcher/processors, which were then used to determine the prohibited species sideboard limits for unrestricted AFA catcher/processors in the 2003 non-pollock groundfish fisheries.

PSC that is caught by unrestricted AFA catcher/processors participating in any non-pollock groundfish fishery listed in Table 11 would accrue against the proposed 2003 PSC limits for the listed catcher/processors. Regulations that will be effective with the final rule to implement major provisions of the AFA at § 679.21(e)(3)(v) provide NMFS with the authority to close directed fishing for non-pollock groundfish for unrestricted AFA catcher/processors once a proposed 2003 PSC limitation listed in Table 11 is reached.

Crab or halibut PSC that is caught by unrestricted AFA catcher/processors while fishing for pollock will accrue against the bycatch allowances annually specified for either the midwater pollock or the pollock/Atka mackerel/other species fishery categories under the final rule to implement major provisions of the AFA at § 679.21(e).

Table 11.—Proposed 2003 Unrestricted BSAI AFA Catcher/Processor Prohibited Species Sideboard Amounts¹
PSC species | 1995-1997: PSC catch | 1995-1997: Total PSC | 1995-1997: Ratio | Proposed 2003 PSC available to trawl vessels | Proposed 2003 C/P limit
Halibut mortality | 955 | 11,325 | 0.084 | 3,400 | 286
Red king crab | 3,098 | 473,750 | 0.007 | 89,725 | 628
C. opilio | 2,323,731 | 15,139,178 | 0.153 | 4,023,750 | 615,634
C. bairdi:
Zone 1 | 385,978 | 2,750,000 | 0.140 | 906,500 | 126,910
Zone 2 | 406,860 | 8,100,000 | 0.050 | 2,747,250 | 137,363
¹ Halibut amounts are in metric tons of halibut mortality. Crab amounts are in numbers of animals.

AFA Catcher Vessel Sideboards

The final rule to implement major provisions of the AFA at § 679.63(b) will establish formulas for setting AFA catcher vessel groundfish and PSC sideboard limits for the BSAI. The basis for these sideboard limits is described in detail in the Proposed Rule for Amendments 61/61/13/8 to Implement Major Provisions of the AFA (66 FR 65028, December 17, 2001). For 2002, NMFS revised the ratio 2001 of 1995 to 1997 AFA catcher vessel retained catch to the 1995 to 1997 TAC. These revisions are based on ADF&G editing of fish tickets and NMFS editing of observer catch data and weekly production reports. The proposed 2003 AFA catcher vessel sideboard limits are shown in Tables 12 and 13.

All harvests of groundfish sideboard species made by non-exempt AFA catcher vessels, whether as targeted catch or incidental catch, will be deducted from the proposed sideboard limits listed in Table 12.

Table 12.—Proposed 2003 BSAI AFA Catcher Vessel Sideboards.
[Amounts Are Expressed in MT]
Species and fishery by area/season/processor/gear | Ratio of 1995-1997 AFA CV catch to 1995-1997 TAC | Proposed 2003 Initial TAC | Proposed 2003 catcher vessel sideboard limits
Pacific cod:
BSAI:
jig gear | 0.0000 | 3,400 | 0
Hook-and-line CV:
Jan 1-Jun 10 | 0.0006 | 155 | 0
Jun 10-Dec 31 | 0.0006 | 103 | 0
Pot gear:
Jan 1—Jun 10 | 0.0006 | 9,465 | 6
Sept 1-Dec 31 | 0.0006 | 6,310 | 4
CV < 60 feet LOA | 0.0006 | 1,207 | 0
Using hook-and-line or Pot gear
Trawl gear
Catcher vessel:
Jan 20—Apr 1 | 0.8609 | 27,965 | 24,075
Apr 1-Jun 10 | 0.8609 | 3,995 | 3,439
Jun 10-Nov 1 | 0.8609 | 7,990 | 6,879
Sablefish:
BS trawl gear | 0.0906 | 821 | 74
AI trawl gear | 0.0645 | 541 | 35
Atka mackerel:
Eastern AI/BS: jig gear | 0.0031 | 57 | 0
Other gear:
Jan 1-Apr 15 | 0.0032 | 2,815 | 9
Sept 1-Nov 1 | 0.0032 | 2,815 | 9
Central AI:
Jan-Apr 15 | 0.0001 | 12,304 | 1
HLA limit | 0.0001 | 7,382 | 1
Sept 1-Nov 1 | 0.0001 | 12,304 | 1
HLA limit | 0.0001 | 7,382 | 1
Western AI:
Jan-Apr 15 | 0.0000 | 10,183 | 0
HLA limit | 0.0000 | 6,110 | 0
Sept 1-Nov 1 | 0.0000 | 10,183 | 0
HLA limit | 0.0000 | 6,110 | 0
Yellowfin sole:
BSAI | 0.0647 | 64,600 | 4,180
Rock sole:
BSAI | 0.0341 | 45,900 | 1,565
Greenland Turbot:
BS | 0.0645 | 4,556 | 294
AI | 0.0205 | 2,244 | 46
Arrowtooth flounder:
BSAI | 0.0690 | 13,600 | 938
Alaska plaice:
BSAI | 0.0441 | 10,200 | 450
Other flatfish:
BSAI | 0.0441 | 2,550 | 112
Pacific ocean perch:
BS | 0.1000 | 2,620 | 262
Eastern AI | 0.0077 | 2,941 | 23
Central AI | 0.0025 | 2,601 | 7
Western AI | 0.0000 | 4,811 | 0
Northern rockfish:
BS | 0.0280 | 11 | 0
AI | 0.0089 | 3,984 | 35
Shortraker/Rougheye:
BS | 0.0048 | 99 | 0
AI | 0.0035 | 775 | 3
Other rockfish:
BS | 0.0048 | 307 | 1
AI | 0.0095 | 575 | 5
Squid:
BSAI | 0.3827 | 1,675 | 641
Other species:
BSAI | 0.0541 | 26,201 | 1,417
Flathead Sole:
BS trawl gear | 0.0505 | 21,250 | 1,073

The final rule to implement major provisions of the AFA at § 679.63(b) will establish a formula for PSC sideboard limits for AFA catcher vessels. The AFA catcher vessel PSC bycatch limit for halibut in the BSAI and GOA, and each crab species in the BSAI for which a trawl bycatch limit has been established will be a portion of the PSC limit equal to the ratio of aggregate retained groundfish catch by AFA catcher vessels in each PSC target category from 1995 through 1997 relative to the retained catch of all vessels in that fishery from 1995 through 1997. These proposed PSC sideboard limits are listed in Table 13.

Halibut and crab PSC that is caught by AFA catcher vessels participating in any non-pollock groundfish fishery listed in Table 13 will accrue against the proposed 2003 PSC limits for the AFA catcher vessels. The final rule to implement major provisions of the AFA at § 679.21(d)(8) and (e)(3)(v) will provide authority to close directed fishing for non-pollock groundfish for AFA catcher vessels once a proposed 2003 PSC limitation listed in Table 13 for the BSAI is reached. PSC that is caught by AFA catcher vessels while fishing for pollock in the BSAI will accrue against either the midwater pollock or the pollock/Atka mackerel/other species fishery categories.

Table 13.—Proposed 2003 AFA Catcher Vessel Prohibited Species Catch Sideboard Limits for the BSAI¹
PSC species and target fishery category ² | Ratio of 1995-1997 AFA CV retained catch to total retained catch | Proposed 2003 PSC Limit | Proposed 2003 AFA catcher vessel PSC sideboard limit
Halibut:
Pacific cod trawl | 0.6183 | 1,434 | 887
Pacific cod hook-and-line or pot | 0.0022 | 775 | 2
Yellowfin sole | 0.1144 | 886 | 101
Rock sole/flat. sole/other flatfish ⁵ | 0.2841 | 779 | 221
Turbot/Arrowtooth/Sablefish | 0.2327 | 0 | 0
Rockfish | 0.0245 | 69 | 2
Pollock/Atka mackerel/Other sp. | 0.0227 | 232 | 5
Red King Crab Zone 1: ⁴
Pacific cod | 0.6183 | 11,664 | 7,212
Yellowfin sole | 0.1144 | 16,664 | 1,906
Rock sole/flat. sole/other flatfish ⁵ | 0.2841 | 59,782 | 16,984
Pollock/Atka mackerel/Other sp. | 0.0227 | 1,615 | 37
C. opilio—COBLZ: ³
Pacific cod | 0.6183 | 124,736 | 77,124
Yellowfin sole | 0.1144 | 2,776,981 | 317,687
Rock sole/flat. sole/other flatfish ⁵ | 0.2841 | 969,130 | 275,330
Pollock/Atka mackerel/Other sp. | 0.0227 | 72,428 | 1,644
Rockfish | 0.0245 | 40,237 | 986
Turbot/Arrowtooth/Sablefish | 0.2327 | 40,238 | 9,363
C. bairdi—Zone 1:
Pacific cod | 0.6183 | 183,112 | 113,218
Yellowfin sole | 0.1144 | 340,844 | 38,993
Rock sole/flat. sole/other flatfish ⁵ | 0.2841 | 365,320 | 103,787
Pollock/Atka mackerel/Other sp. | 0.0227 | 17,224 | 391
C. bairdi—Zone 2:
Pacific cod | 0.6183 | 324,176 | 200,438
Yellowfin sole | 0.1144 | 1,788,459 | 204,600
Rock sole/flat. sole/other flatfish ⁵ | 0.2841 | 596,154 | 169,367
Pollock/Atka mackerel/Other sp. | 0.0227 | 27,473 | 624
Rockfish | 0.0245 | 10,988 | 269
¹ Halibut amounts are in metric tons of halibut mortality. Crab amounts are in numbers of animals.
² Target fishery categories are defined in regulation at § 679.21(e)(3)(iv).
³ C. opilio Bycatch Limitation Zone. Boundaries are defined at Figure 13 of 50 CFR part 679.
⁴ The Council at its October 2002 meeting recommended that red king crab bycatch for trawl fisheries within the RKCSS be limited to 35 percent of the total allocation to the rock sole/flathead sole/“other flatfish” fishery category (§ 679.21(e)(3)(ii)(B)).
⁵ “Other flatfish” for PSC monitoring includes all flatfish species, except for Pacific halibut (a prohibited species), Greenland turbot, rock sole, yellowfin sole, arrowtooth flounder.

Classification

This action is authorized under 50 CFR 679.20 and is exempt from review under Executive Order 12866.

Pursuant to section 7 of the Endangered Species Act (ESA), NMFS has initiated consultation on the effects of the 2003 harvest specifications on listed species, including the Steller sea lion, and designated critical habitat. This consultation will be completed in December 2002 before the start of the 2003 groundfish fishery. This consultation cannot be completed until new fishery information is available in late November.

NMFS prepared a draft EA that describes the impacts on the human environment that would result from implementation of the proposed harvest specifications. A final EA that describes the impacts on the human environment that will result from implementation of the final 2003 harvest specifications will be prepared after the public comment period and after the December 2002 Council meeting. The final EA will also incorporate the findings of the section 7 consultations under the ESA on the 2003 harvest specifications.

NMFS prepared an IRFA for this action in accordance with the provisions of the Regulatory Flexibility Act of 1980, as amended by the Small Business Regulatory Enforcement Fairness Act of 1996 (5 U.S.C. 603(b)). This IRFA evaluated the effects of the proposed specifications on regulated small entities. The reasons for the action, a statement of the objectives of the action, and the legal basis for the proposed rule, are discussed earlier in the preamble.

The small entities affected by this action are those that harvest fish under the terms of the specifications in the BSAI. The IRFA identified 193 small catcher vessels, 31 small catcher/processors, and six small CDQ groups.

Data on operating costs for these entities does not exist, so it is impossible to make estimates of net returns or cash flow. Changes in estimated first wholesale gross revenues between the proposed 2003 specifications and estimated 2002 gross revenues (used as a baseline) were used as an index of adverse impact on small entities. The preferred alternative was found to have estimated aggregate gross revenues very similar to those in 2002. Therefore, this alternative was not found to have an adverse impact.

No projected additional reporting, record keeping and other compliance requirements exist in the proposed rule. No relevant Federal rules exist that may duplicate, overlap or conflict with the proposed rule.

The preferred alternative was compared to the four other alternatives usually evaluated during the specifications process. These alternatives are defined by the use of different harvest rates (F values). The other alternatives are, (a) Set F equal to maxFABC, (b) Set F equal to 50% of maxFABC, (C) Set F equal to the most recent five year average actual F, and (d) Set F equal to zero. The preferred alternative was associated with gross revenues very similar to those of alternative (a). The model was unable to discern a meaningful difference. The preferred alternative was found to generate gross revenues larger than those for alternatives (b), (c), and (d). Three of the alternatives examined, therefore, were found to have an adverse impact. The fourth was found, like the proposed specifications, to have no adverse impact.

Authority: 16 U.S.C. 773 et seq. 16 U.S.C. 1801 et seq., and 3631 et seq.

Dated: December 6, 2002.
William T. Hogarth,
Assistant Administrator for Fisheries, National Marine Fisheries Service.

[FR Doc. 02-31369 Filed 12-11-02; 8:45 am]

BILLING CODE 3510-22-P